DEPARTMENT OF COMMERCE

International Trade Administration

[A-469-814]

Chlorinated Isocyanurates From Spain: Final Results of Antidumping Duty Administrative Review

AGENCY: Import Administration, International Trade Administration, Department of Commerce.

SUMMARY: The Department of Commerce (“Department” published its preliminary results of the administrative review of the antidumping duty order on chlorinated isocyanurates (“chlorinated isos”) from Spain on July 9, 2007. See Chlorinated Isocyanurates from Spain: Preliminary Results of Antidumping Duty Administrative Review, 72 FR 37189 (July 9, 2007) (“Preliminary Results”). The period of review (“POR”) is December 20, 2004, through May 31, 2006. We invited interested parties to comment on our Preliminary Results. Based on our analysis of the comments received, we have made changes to our calculations. The final dumping margins from this review are listed in the “Final Results of Review” section below.

EFFECTIVE DATE: November 15, 2007.

FOR FURTHER INFORMATION CONTACT: Thomas Martin, AD/CVD Operations, Office 4, Import Administration, International Trade Administration, U.S. Department of Commerce, 14th Street and Constitution Avenue, NW., Washington, DC 20230; telephone (202) 482-3936.

SUPPLEMENTARY INFORMATION: On June 24, 2005, the Department published in the Federal Register an antidumping duty order on chlorinated isos from Spain. See Chlorinated Isocyanurates from Spain: Notice of Antidumping Duty Order, 70 FR 36502 (June 24, 2005) (“Chlorinated Isos Order”). On July 27, 2006, the Department published in the Federal Register a notice of the initiation of the antidumping duty administration review of chlorinated isos from Spain for the period December 20, 2004, through May 31, 2006. See Initiation of Antidumping and Countervailing Duty Administrative Reviews and Request for Revocation in Part, 71 FR 42626 (July 27, 2006).

The Department published the preliminary results of these reviews on July 9, 2007. See Preliminary Results. We invited parties to comment on our preliminary results of review. See Preliminary Results, 72 FR at 37194. The respondent Aragonesas Industrias y Energía S.A. (“Aragonesas”) and the petitioners, Biolab, Inc., Clearon Corporation and Occidental Chemical Corporation (collectively, “the petitioners”), submitted case briefs on August 8, 2007. Aragonesas and the petitioners submitted rebuttal briefs on August 22, 2007. On September 25, 2007, the Department held both a public session and a closed session hearing concerning these issues raised by the parties in their briefs.

Scope of Antidumping Duty Order

The products covered by this order are chlorinated isos. Chlorinated isos are derivatives of cyanuric acid, described as chlorinated s-triazine triones. There are three primary chemical compositions of chlorinated isos: (1) trichloroisocyanuric acid (C13(NCO)3); (2) sodium dichloroisocyanurate (dihydrate) (NaC12(NCO)3 2H20); and (3) sodium dichloroisocyanurate (anhydrous) (NaC12(NCO)3). Chlorinated isos are available in powder, granular, and tableted forms. This order covers all chlorinated isos.

Chlorinated isos are currently classifiable under subheadings 2933.69.6015, 2933.69.6021, and 2933.69.6050 of the Harmonized Tariff Schedule of the United States (“HTSUS”). The tariff classification 2933.69.6015 covers sodium dichloroisocyanurates (anhydrous and dihydrate forms) and trichloroisocyanuric acid. The tariff classifications 2933.69.6021 and 2933.69.6050 represent basket categories that include chlorinated isos and other compounds including an infused triazine ring. Although the HTSUS subheadings are provided for convenience and customers purposes, and written description of the scope of this order is dispositive.

Analysis of Comments Received

All issues raised in the briefs and rebuttal briefs submitted by the parties in these reviews are addressed in the Issues and Decision Memorandum, which is hereby adopted by this notice. A list of the issues which parties raised and to which we responded in the Issues and Decision Memorandum is attached to this notice as an appendix. The Issues and Decision Memorandum is a public document which is on file in the Central Records Unit in room B-099 in the main Department building, and is accessible on the Web at http://www.ia.ita.doc.gov/frn. The paper copy and electronic version of the memorandum are identical in content.

Changes Since the Preliminary Results

Based on our analysis of comments received, we have made changes in the margin calculation for Aragonesas. For a list of these changes, see Issues and Decision Memorandum, at the section titled “Changes in the Margin Calculation Since the Preliminary Results.”

Final Results of Review

We determine that the following percentage margin exists for the period December 20, 2004, through May 31, 2006:

Manufacturer/exporter | Weighted- average margin (percentage)
Aragonesas Industrias y Energía S.A | 2.35

Assessment

The Department shall determine, and U.S. Customs and Border Protection (“CBP”) shall assess, antidumping duties on all appropriate entries, in accordance with 19 CFR 351.212(b). In accordance with 19 CFR 351.212(b)(1), we calculated importer-specific ad valorem duty assessment rates based on the ratio of the total amount of antidumping duties calculated for the examined sales to each importer, to the total entered value of the examined sales for that importer. Where the importer-specific assessment rate is above de minimis (i.e., 0.50 percent or greater), we will instruct CBP to assess the importer-specific rate uniformly, as appropriate, on all entries of subject merchandise during the POR that were entered by the importer. The Department will issue instructions to CBP 15 days after the date of publication of these final results of review directing CBP to assess the final assessment rates (if above de minimis) uniformly on all entries of subject merchandise made by the relevant importer during the POR. Pursuant to 19 CFR 351.106(c)(2), the Department will instruct CBP to liquidate without regard to antidumping duties any entries for which the assessment rate is de minimis (i.e., less than 0.50 percent).

The Department clarified its “automatic assessment” regulation on May 6, 2003. See Antidumping and Countervailing Duty Proceedings: Assessment of Antidumping Duties, 68 FR 23954 (May 6, 2003) (“Assessment Policy Notice”). This clarification will apply to entries of subject merchandise during the POR produced by the company included in these final results of review for which the reviewed company did not know that the merchandise it sold to the intermediary (e.g., a reseller, trading company, or exporter) was destined for the United States. In such instances, we will instruct CBP to liquidate unreviewed entries at the “All Others” rate if there is no rate for the intermediary involved in the transaction. See Assessment Policy Notice for a full discussion of this clarification.

Cash Deposit Requirements

The following deposit requirements will be effective for all shipments of chlorinated isos from Spain entered, or withdrawn from warehouse, for consumption, effective on or after the publication date of the final results of this administrative review, as provided for by section 751(a)(1) of the Act: (1) The cash deposit rate for the reviewed company, Aragonesas, will be the rate shown above; (2) for previously reviewed or investigated companies not listed above, the cash deposit rate will continue to be the company-specific rate published for the most recent period; (3) if the exporter is not a firm covered in this review, or the original investigation, but the manufacturer is, the cash deposit rate will be the rate established for the most recent period for the manufacturer of the merchandise; and (4) the cash deposit rate for all other manufacturers or exporters will be 24.83 percent, the “All Others” rate made effective by the original investigation. See Chlorinated Isos Order. These deposit requirements shall remain in effect until further notice.

Notification to Importers

This notice serves as a final reminder to importers of their responsibility, under 19 CFR 351.402(f)(2), to file a certificate regarding the reimbursement of antidumping duties prior to liquidation of the relevant entries during this review period. Failure to comply with this requirement could result in the Secretary's presumption that reimbursement of antidumping duties occurred and the subsequent assessment of double antidumping duties.

Notification to Interested Parties

This notice serves as the only reminder to parties subject to administrative protective order (“APO”) of their responsibility concerning the disposition of proprietary information disclosed under APO in accordance with 19 CFR 351.305(a)(3). Timely written notification of return/destruction of APO materials or conversion to judicial protective order is hereby requested. Failure to comply with the regulations and the terms of an APO is a sanctionable violation.

We are issuing and publishing these final results of review in accordance with sections 751(a)(1) and 777(i)(1) of the Act.

Dated: November 6, 2007.
Stephen J. Claeys,
Acting Assistant Secretary for Import Administration.

Appendix

Comment 1: Whether the Department Should Grant a Level of Trade Adjustment.

A. Whether Certain Sales to Industrial Customers Should Be Reclassified as Sales in the Retail Channel of Distribution Due to Product Characteristics.

B. Whether Evidence on the Record Supports Aragonesas' Reported Selling Activity Intensity.

Comment 2: Whether the Department Should Exclude Sales for Which Aragonesas Reported No Freight Expenses in Calculating the Average Rate by Which Aragonesas Over-reported Home Market Inland Freight.

Comment 3: Whether the Department Should Apply the Major Input Rule for Valuing Caustic Soda and Chlorine Inputs.

Comment 4: Whether the Tableting and Packaging Services Supplier Is Affiliated With Aragonesas.

Comment 5: Whether the Department Should Adjust Aragonesas' G&A Expenses.

Comment 6: Whether the Department Should Adjust Aragonesas' Cost of Production To Account for Costs That Were Unreconciled After Verification.

Comment 7: Whether the Department Should Deduct Unsubstantiated Interest Income From Aragonesas' Financial Expense Ratio Calculation.

Comment 8: Whether the Department Should Adjust the Reported Costs for CONNUM 1111.

Comment 9: Whether the Department Should Refrain From Zeroing Negative Margins.

[FR Doc. 07-5700 Filed 11-14-07; 8:45 am]

BILLING CODE 3510-DS-M